NUCLEAR REGULATORY COMMISSION

[NRC-2020-0192]

Consolidated Decommissioning Guidance, Characterization, Survey, and Determination of Radiological Criteria

AGENCY: Nuclear Regulatory Commission.

ACTION: Draft NUREG; request for comment; extension of comment period; public meeting.

SUMMARY: On December 8, 2020, the U.S. Nuclear Regulatory Commission (NRC) issued a draft report for comment, NUREG-1757, Volume 2, Revision 2, “Consolidated Decommissioning Guidance, Characterization, Survey, and Determination of Radiological Criteria.” The public comment period was originally scheduled to close on February 8, 2021. The NRC has decided to extend the public comment period to allow more time for members of the public to develop and submit their comments. Additionally, the NRC staff would like to announce that it will hold a public meeting on Monday, March 15, 2021, to discuss updates to the guidance document and provide members of the public an opportunity to comment on the draft guidance document. Details regarding the public meeting and agenda will be forthcoming on the NRC's public website https://www.nrc.gov/pmns/mtg.

DATES: The due date of comments requested in the document published on December 8, 2020 (85 FR 79044) is extended. Comments should be filed no later than April 8, 2021. Comments received after this date will be considered, if it is practical to do so, but the Commission is able to ensure consideration only for comments received on or before this date.

ADDRESSES: You may submit comments by any of the following methods; however, the NRC encourages electronic comment submission through the Federal Rulemaking website:

• Federal Rulemaking website: Go to https://www.regulations.gov and search for Docket ID NRC-2020-0192. Address questions about Docket IDs in regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Cynthia Barr, Office of Nuclear Material Safety and Safeguards; U.S. Nuclear Regulatory Commission, Washington, DC 20555 0001; telephone: 301 415-4015; email: Cynthia.Barr@nrc.gov.

SUPPLEMENTARY INFORMATION:

I. Obtaining Information and Submitting Comments

A. Obtaining Information

Please refer to Docket ID NRC-2020-0192 when contacting the NRC about the availability of information for this action. You may obtain publicly available information related to this action by any of the following methods:

• Federal Rulemaking website: Go to https://www.regulations.gov and search for Docket ID NRC-2020-0192.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NUREG-1757, Volume 2, Revision 2, is located at ADAMS Accession Number ML20273A010.

• Attention: The PDR, where you may examine and order copies of public documents, is currently closed. You may submit your request to the PDR via email at pdr.resource@nrc.gov or call 1-800-397-4209 or 301-415-4737 between 8:00 a.m. and 4:00 p.m. (EST), Monday through Friday, except Federal holidays.

B. Submitting Comments

The NRC encourages electronic comment submission through the Federal Rulemaking website (https://www.regulations.gov). Please include Docket ID NRC-2020-0192 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 8, 2020 (85 FR 79044), the NRC issued for public comment draft NUREG-1757, Volume 2, Revision 2, “Consolidated Decommissioning Guidance, Characterization, Survey, and Determination of Radiological Criteria.” The purpose was to provide interested stakeholders an opportunity to comment on the draft guidance document. The public comment period was originally scheduled to close on February 8, 2021. The NRC has decided to extend the public comment period on this document until April 8, 2021, to allow more time for members of the public to submit their comments. Additionally, the NRC staff will hold a public meeting on Monday, March 15, 2021, to discuss updates to the guidance document and provide members of the public an opportunity to comment on the draft guidance document. Details regarding the public meeting and agenda will be forthcoming on the NRC's public website https://www.nrc.gov/pmns/mtg.

Dated: January 14, 2021.
For the Nuclear Regulatory Commission.
Patricia K. Holahan,
Director, Division of Decommissioning, Uranium Recovery, and Waste Programs, Office of Nuclear Material Safety and Safeguards.

[FR Doc. 2021-01379 Filed 1-21-21; 8:45 am]

BILLING CODE 7590-01-P